DEPARTMENT OF HEALTH AND HUMAN SERVICES

National Institutes of Health

National Cancer Institute; Amended Notice of Meeting

Notice is hereby given of a change in the meeting of the National Cancer Institute Special Emphasis Panel, July 7, 2011, 8 a.m. to July 8, 2011, 5 p.m., Bethesda North Marriott Hotel & Conference Center, 5701 Marinelli Road, Bethesda, MD 20852 which was published in the Federal Register on May 16, 2011, 76FR28236.

This notice is amending the dates and times of the meeting from July 7-8, 2011, 8 a.m. to 5 p.m. to the following dates and times: July 6th—7:30 to 10 p.m., July 7th—8 a.m. to 5 p.m., and July 8th—8 a.m. to 4 p.m. The meeting is closed to the public.

Dated: June 21, 2011.
Jennifer S. Spaeth,
Director, Office of Federal Advisory Committee Policy.

[FR Doc. 2011-15999 Filed 6-24-11; 8:45 am]

BILLING CODE 4140-01-P